FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
003672N | Astral Freight Services, Inc., 1418 NW 82nd Avenue, Doral, FL 33126 | May 13, 2011.
022074N | Stream Links Express, Inc. dba E-Freight Solutions, 16328 Avalon Road, Gardena, CA 90248 | May 6, 2011.
022540N | Quality One International, Shipping Express, Corp., 3913 Dyre Avenue, Bronx, NY 10466 | May 24, 2011.

Sandra L. Kusumoto,
Director, Bureau of Certification and Licensing.

[FR Doc. 2011-17631 Filed 7-12-11; 8:45 am]

BILLING CODE 6730-01-P